DEPARTMENT OF TRANSPORTATION

Federal Aviation Administration

14 CFR Part 39

[Docket No. 2000-NM-95-AD; Amendment 39-11684; AD 2000-07-28]

RIN 2120-AA64

Airworthiness Directives; Fokker Model F27 Series Airplanes Equipped With Rolls-Royce 532-7 “Dart 7” (RDa-7) Series Engines

AGENCY: Federal Aviation Administration, DOT.

ACTION: Final rule; request for comments.

SUMMARY: This amendment supersedes an existing airworthiness directive (AD), applicable to certain Fokker Model F27 series airplanes, that currently requires revising the Airplane Flight Manual (AFM) to provide the flightcrew with modified operational procedures to ensure continuous operation with the high pressure cock (HPC) levers in the lockout position. This amendment retains the requirements of the existing AD for the Normal and Abnormal Procedures Sections of the AFM, and requires incorporation of amended Limitations and Emergency Procedures Sections into the AFM. This amendment is prompted by a report that certain incorrect instructions had been included in the Emergency Procedures Section of the AFM revision required by the existing AD. The actions specified in this AD are intended to ensure that flightcrews follow correct procedures that will maintain the HPC levers in a permanent lockout position to prevent consequent burnout of the engines during flight.

DATES: Effective April 18, 2000.

The incorporation by reference of certain publications listed in the regulations is approved by the Director of the Federal Register as of April 18, 2000.

The incorporation by reference of certain other publications, as listed in the regulations, was approved previously by the Director of the Federal Register as of October 8, 1999 (64 FR 48280, September 3, 1999).

Comments for inclusion in the Rules Docket must be received on or before May 18, 2000.

ADDRESSES: Submit comments in triplicate to the Federal Aviation Administration (FAA), Transport Airplane Directorate, ANM-114, Attention: Rules Docket No. 2000-NM-95-AD, 1601 Lind Avenue, SW., Renton, Washington 98055-4056.

The service information referenced in this AD may be obtained from Fokker Services B.V., P.O. Box 231, 2150 AE Nieuw-Vennep, the Netherlands. This information may be examined at the FAA, Transport Airplane Directorate, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: On August 27, 1999, the FAA issued AD 99-18-22, amendment 39-11288 (64 FR 48280, September 3, 1999), applicable to certain Fokker Model F27 series airplanes, to require revising the FAA-approved Airplane Flight Manual (AFM) to provide the flightcrew with modified operational procedures to ensure continuous operation with the high pressure cock (HPC) levers in the lockout position. That action was prompted by issuance of mandatory continuing airworthiness information by a foreign civil airworthiness authority. The actions required by that AD are intended to prevent burnout of the engines during flight by ensuring that the HPC levers are in a permanent lockout position.

Actions Since Issuance of Previous Rule

Since the issuance of that AD, the Rijksluchtvaartdienst (RLD), which is the airworthiness authority for the Netherlands, has advised the FAA that certain incorrect instructions had been included in the AFM revision required by that AD.

Fokker Manual Change Notice MCNO-F27-001 was cited in the existing AD as the appropriate source of service information for placing the HPC levers in a permanent lock position (with the cruise lock withdrawal system disabled) during operation of the airplane. However, MCNO-F27-001 contains remove/replace instructions rather than the amended procedures. One operator reported that strict adherence to the instructions in its flight manual (following incorporation of the MCNO) would have resulted in incorrect “Manual Feathering Procedure” and “Propeller Overspeed Procedure.”

The emergency manual feathering procedures in the MCNO specify that the HPC be placed in lockout position before the feather button is pressed; however, this procedure is intended to relight the engine in flight. Use of this procedure would result in unfeathering of the propeller and loss of control of the airplane.

FAA's Determination

In light of this information, the FAA finds that certain procedures should be amended in the AFM for Model F27 series airplanes to ensure that flightcrews follow correct procedures that will maintain the HPC levers in a permanent lockout position to prevent consequent burnout of the engines during flight. The FAA has determined that such procedures currently are not defined adequately in the AFM for these airplanes.

FAA's Conclusions

This airplane model is manufactured in the Netherlands and is type certificated for operation in the United States under the provisions of § 21.29 of the Federal Aviation Regulations (14 CFR 21.29) and the applicable bilateral airworthiness agreement. Pursuant to this bilateral airworthiness agreement, the RLD has kept the FAA informed of the situation described above. The FAA has examined the findings of the RLD, reviewed all available information, and determined that AD action is necessary for products of this type design that are certificated for operation in the United States.

Explanation of Requirements of Rule

Since an unsafe condition has been identified that is likely to exist or develop on other airplanes of the same type design registered in the United States, this AD supersedes AD 99-18-22 to continue to require revising the Normal and Abnormal Procedures Sections of the AFM. This AD also requires incorporation of amended Limitations and Emergency Procedures into the AFM.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-95-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11288 (64 FR 48280, September 3, 1999), and by adding a new airworthiness directive (AD), amendment 39-11684, to read as follows:

2000-07-28 Fokker Services B.V.: Amendment 39-11684. Docket 2000-NM-95-AD. Supersedes AD 99-18-22, Amendment 39-11288.

Applicability: Model F27 series airplanes, certificated in any category, as listed in Fokker F27 Service Bulletin F27/61-40, Revision 1, dated August 1, 1997.

Compliance: Required as indicated, unless accomplished previously.

To ensure that flightcrews follow correct procedures that will maintain the high pressure cock (HPC) levers in a permanent lockout position to prevent consequent burnout of the engines during flight, accomplish the following:

AFM Revision: Normal and Abnormal Procedures Sections

(a) Within 6 months after October 8, 1999 (the effective date of AD 99-18-22, amendment 39-11288): Revise the Normal and Abnormal Procedures Sections, as applicable, of the FAA-approved Airplane Flight Manual (AFM) by incorporating Fokker F27 Service Bulletin F27/61-40, Revision 1, dated August 1, 1997; including Fokker F27 Manual Change Notification (MCNO) F27-001, dated June 30, 1997. [MCNO F27-001 specifies procedures for placing the HPC levers in a permanent lockout position (with the cruise lock withdrawal system disabled) during operation of the airplane.] This action may be accomplished by inserting a copy of MCNO F27-001 into the applicable sections of the AFM.

AFM Revision: Limitations and Emergency Procedures Sections

(b) Within 3 days after the effective date of this AD, revise the Limitations and Emergency Procedures Sections of the AFM by incorporating Fokker Manual Change Notification MCNO F27-008, dated March 1, 2000. This action may be accomplished by inserting a copy of MCNO F27-008 into the applicable sections of the AFM.

Alternative Methods of Compliance

(c) An alternative method of compliance or adjustment of the compliance time that provides an acceptable level of safety may be used if approved by the Manager, International Branch, ANM-116, FAA, Transport Airplane Directorate. Operators shall submit their requests through an appropriate FAA Principal Operations Inspector, who may add comments and then send it to the Manager, International Branch, ANM-116.

Note 1: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Fokker F27 Service Bulletin F27/61-40, Revision 1, dated August 1, 1997, including Fokker F27 Manual Change Notification (MCNO) F27-001, dated June 30, 1997; and Fokker Manual Change Notification MCNO F27-008, dated March 1, 2000.

(1) The incorporation by reference of Fokker Manual Change Notification MCNO F27-008, dated March 1, 2000, is approved by the Director of the Federal Register, in accordance with 5 U.S.C. 552(a) and 1 CFR part 51.

(2) The incorporation by reference of Fokker F27 Service Bulletin F27/61-40, Revision 1, dated August 1, 1997, including Fokker F27 Manual Change Notification (MCNO) F27-001, dated June 30, 1997, was approved previously by the Director of the Federal Register as of October 8, 1999 (64 FR 48280, September 3, 1999).

(3) Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

(f) This amendment becomes effective on April 18, 2000.

Issued in Renton, Washington, on April 6, 2000.
Donald L. Riggin,
Acting Manager, Transport Airplane Directorate, Aircraft Certification Service.

[FR Doc. 00-9110 Filed 4-17-00; 8:45 am]

BILLING CODE 4910-13-U